DEPARTMENT OF ENERGY

Federal Energy Regulatory Commission

[Docket No. PR99-257-006]

Williams Gas Pipelines Central, Inc.; Notice of Proposed Changes in FERC Gas Tariff

April 12, 2000.

Take notice that on April 6, 2000, Williams Gas Pipelines Central Inc. (Williams) tendered for filing as part of its FERC Gas Tariff, Original Volume No. 1, the following tariff sheets to become effective November 1, 1999.

Substitute Second Revised Sheet No. 267.

Sheet No. 268

On December 30, 1999, Williams filed revised tariff sheets and a Reconciliation and Refund report in the above-referenced dockets related to the settlement of all Gas Supply Realignment (GSR) cost issues. That filing is pending before the Commission. In that filing, Williams inadvertently deleted sections 14.4 and 14.5 of the General Terms and Conditions of its tariff. Those sections dealt with Stranded Investment and Exit Fees, respectively, and did not relate to GSR costs in any way. The instant filing proposes to reinstate these sections as sections 14.3 and 14.4 to be consistent with the numbering of preceding sections in Article 14. Williams is not proposing any changes in the language of these sections.

Williams states that copies of the revised tariff sheets are being mailed to all parties on the Commission's official service list as well as to William's jurisdictional customers and interested state commissions.

Any person desiring to protest this filing should file a protest with the Federal Energy Regulatory Commission, 888 First Street, NE, Washington, DC 20426, in accordance with § 154.210 of the Commission's regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-222 for assistance).

Linwood A. Watson, Jr.,
Acting Secretary.

[FR Doc. 00-9597 Filed 4-17-00; 8:45 am]

BILLING CODE 6717-01-M